DEPARTMENT OF HEALTH AND HUMAN SERVICES

Administration for Children and Families

Submission for OMB Review; Comment Request

Title: Form ACF-196R, “TANF Quarterly Financial Report”

OMB No.: 0970-0446

Description: This information collection is authorized under Section 411(a)(3) of the Social Security Act. This request is for continued approval of Form ACF-196R for quarterly financial reporting under the Temporary Assistance for Needy Families (TANF) program. States participating in the TANF program are required by statute to report financial data on a quarterly basis. The forms meet the legal standard and provide essential data on the use of federal TANF funds. Failure to collect the data would seriously compromise ACF's ability to monitor program expenditures, estimate funding needs, and to prepare budget submissions and annual reports required by Congress. Financial reporting under the TANF program is governed by 45 CFR part 265.

This form was first developed in 2014 to replace Form ACF-196. No changes are being proposed with this request for OMB review. No comments were received in response to the publication of the initial Federal Register Notice on May 30, 2017, 82 FR 24714.

Respondents: State agencies administering the TANF program (50 States plus the District of Columbia)

Annual Burden Estimates
Instrument | Number of respondents | Number of responses per respondent | Average burden hours per response | Total burden hours
ACF-196R | 51 | 4 | 14 | 2,856

Estimated Total Annual Burden Hours: 2,856.

Additional Information: Copies of the proposed collection may be obtained by writing to the Administration for Children and Families, Office of Planning, Research and Evaluation, 330 C Street SW., Washington, DC 20201, Attn: Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-22377 Filed 10-16-17; 8:45 am]

BILLING CODE 4184-01-P